DEPARTMENT OF THE TREASURY

Agency Information Collection Activities; Submission for OMB Review; Comment Request; Treasury International Capital (TIC) Forms CQ-1 and CQ-2

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before January 17, 2020 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8100, Washington, DC 20220, or email at PRA@treasury.gov.

FOR FURTHER INFORMATION CONTACT: Copies of the submissions may be obtained from Spencer W. Clark by emailing PRA@treasury.gov, calling (202) 927-5331, or viewing the entire information collection request at www.reginfo.gov.

SUPPLEMENTARY INFORMATION:

Treasury Departmental Offices (DO)

Title: Treasury International Capital (TIC) Forms CQ-1 and CQ-2.

OMB Control Number: 1505-0024.

Type of Review: Extension without change of a currently approved collection.

Description: Forms CQ-1 and CQ-2 are required by law to collect timely information on international portfolio capital movements, in particular data on financial and commercial liabilities to, and claims on, unaffiliated foreign residents held by non-financial enterprises in the U.S. This information is necessary in the computation of the U.S. balance of payments accounts and the U.S. international investment position, and in the formulation of U.S. international financial and monetary policies.

Form: CQ-1, CQ-2.

Affected Public: Businesses or other for-profits.

Estimated Number of Respondents: 125.

Frequency of Response: Quarterly.

Estimated Total Number of Annual Responses: 500.

Estimated Time per Response: 6.7.

Estimated Total Annual Burden Hours: 3,350.

(Authority: 44 U.S.C. 3501 et seq.)

Dated: December 12, 2019.
Spencer W. Clark,
Treasury PRA Clearance Officer.

[FR Doc. 2019-27208 Filed 12-17-19; 8:45 am]

BILLING CODE 4810-25-P